DEPARTMENT OF HOMELAND SECURITY

Coast Guard

[Docket No. USCG-2016-0165]

Port Access Route Study (PARS): In Nantucket Sound

AGENCY: Coast Guard, DHS.

ACTION: Notice of study; request for comments.

SUMMARY: The Coast Guard is conducting a Port Access Route Study (PARS) to determine whether it should revise existing regulations to improve navigation safety in Nantucket Sound due to factors such as increased vessels traffic, changing vessel traffic patterns, weather conditions, or navigational difficulty.

DATES: Comments and related material must be received on or before June 20, 2016.

ADDRESSES: You may submit comments, or view documents noted to be available in the docket, and comments made in response to this notice using the Federal eRulemaking Portal (http://www.regulations.gov), docket USCG-2016-0165.

FOR FURTHER INFORMATION CONTACT: If you have questions on this notice, email D01-SMB-NantucketPARS@uscg.mil.

SUPPLEMENTARY INFORMATION:

I. Public Participation and Request for Comments

We encourage you to participate in this study by submitting comments and related materials. All comments received will be posted without change to http://www.regulations.gov and will include any personal information you have provided.

A. Submitting Comments: You may submit your comments and material online via http://www.regulations.gov. Type “USCG-2016-0165” into the search bar and click search, next to the displayed search results click “Comment Now”, which will open the comment page for this study. We will consider all comments and material received during the comment period.

B. Viewing Comments and Documents: To view comments, as well as documents mentioned in this preamble as being available in the docket, go to http://www.regulations.gov, type “USCG-2016-0165” into the search bar and click search, next to the displayed search results click “Open Docket Folder”, which will display all comments and documents associated with this study.

C. Public Meeting: The Coast Guard may hold public meeting(s) if there is sufficient public interest. You must submit a request for one on or before April 12, 2016. You may submit your request for a public meeting online via http://www.regulations.gov. Please explain why you believe a public meeting would be beneficial. If we determine that a public meeting would aid in the study, we will hold a meeting at a time and place announced by a later notice in the Federal Register.

D. Privacy Act: Anyone can search the electronic form of comments received into any of our dockets by the name of the individual submitting the comment (or signing the comment, if submitted on behalf of an association, business, labor union, etc.). You may review a Privacy Act notice regarding our public dockets in the January 17, 2008, issue of the Federal Register (73 FR 3316).

II. Definitions

The following definitions (except “Regulated Navigation Area”) are from the International Maritime Organization's (IMO's) publication “Ships' Routing” Tenth Edition 2010 and should help you review this notice:

Area to be avoided (ATBA) means a routing measure comprising an area within defined limits in which either navigation is particularly hazardous or it is exceptionally important to avoid casualties and which should be avoided by all ships, or certain classes of ships.

Deep-water route means a route within defined limits, which has been accurately surveyed for clearance of sea bottom and submerged obstacles as indicated on the chart.

Inshore traffic zone means a routing measure comprising a designated area between the landward boundary of a traffic separation scheme and the adjacent coast, to be used in accordance with the provisions of Rule 10(d), as amended, of the International Regulations for Preventing Collisions at Sea, 1972 (COLREGS).

Precautionary area means a routing measure comprising an area within defined limits where ships must navigate with particular caution and within which the direction of traffic flow may be recommended.

Recommended route means a route of undefined width, for the convenience of ships in transit, which is often marked by centerline buoys.

Recommended track is a route which has been specially examined to ensure so far as possible that it is free of dangers and along which vessels are advised to navigate.

Regulated Navigation Area (RNA) means a water area within a defined boundary for which regulations for vessels navigating within the area have been established under 33 CFR part 165.

Roundabout means a routing measure comprising a separation point or circular separation zone and a circular traffic lane within defined limits. Traffic within the roundabout is separated by moving in a counterclockwise direction around the separation point or zone.

Separation zone or separation line means a zone or line separating the traffic lanes in which ships are proceeding in opposite or nearly opposite directions; or separating a traffic lane from the adjacent sea area; or separating traffic lanes designated for particular classes of ship proceeding in the same direction.

Traffic lane means an area within defined limits in which one-way traffic is established. Natural obstacles, including those forming separation zones, may constitute a boundary.

Traffic Separation Scheme (TSS) means a routing measure aimed at the separation of opposing streams of traffic by appropriate means and by the establishment of traffic lanes.

Two-way route means a route within defined limits inside which two-way traffic is established, aimed at providing safe passage of ships through waters where navigation is difficult or dangerous.

Vessel routing system means any system of one or more routes or routing measures aimed at reducing the risk of casualties; it includes traffic separation schemes, two-way routes, recommended tracks, areas to be avoided, no anchoring areas, inshore traffic zones, roundabouts, precautionary areas, and deep-water routes.

III. Background and Purpose

A. Section 310 of the 2015 Coast Guard Authorization Act, Public Law 114-120 signed by the President on February 8, 2016, directs the Commandant of the Coast Guard to complete and submit to the Committee on Transportation and Infrastructure of the House of Representatives and the Committee on Commerce, Science, and Transportation of the Senate a Port Access Route Study (PARS) of Nantucket Sound using the standards and methodology of the Atlantic Coast Port Access Route Study, to determine whether the Coast Guard should revise existing regulations to improve navigation safety in Nantucket Sound due to factors such as increased vessel traffic, changing vessel traffic patterns, weather conditions, or navigational difficulty. The Atlantic Coast Port Access Route Study contained in the “marine planning guidelines” of the Study are included in the docket for this notice.

B. The purpose of this notice is to announce commencement of this PARS and to solicit public comments. We encourage you to participate in the study process by submitting comments in response to this notice. Comments should address impacts to navigation in Nantucket Sound resulting from factors such as increased vessel traffic, changing vessel traffic patterns, weather conditions, or navigational difficulty.

IV. This PARS: Timeline, Study Area, and Process

The First Coast Guard District will conduct this PARS. The study will commence upon publication of this notice and may take 10 months to complete.

The study area is described as Nantucket Sound, an area bounded by a line connecting the following geographic positions, including the entrance and exit routes to the sound but not the individual harbors.

• 41°41′ N., 070°00′ W.;

• 41°20′ N., 070°00′ W.;

• 41°16′ N., 070°15′ W.

• 41°28′ N., 070°40′ W.; and

• 41°34′ N., 070°40′ W.;

An illustration showing the study area is available in the docket.

We will publish the results of the PARS in the Federal Register. It is possible that the study may validate the status quo (no routing measures) and conclude that no changes are necessary. It is also possible that the study may recommend one or more changes to address navigational safety and the efficiency of vessel traffic management. The recommendations may lead to future rulemakings or appropriate international agreements.

This notice is published under the authority of 5 U.S.C. 552(a).

Dated: March 10, 2016.
L. L. Fagan,
Rear Admiral, U.S. Coast Guard, Commander, First Coast Guard District.

[FR Doc. 2016-06424 Filed 3-21-16; 8:45 am]

BILLING CODE 9110-04-P